DEPARTMENT OF ENERGY

Federal Energy Regulatory Commission

[Docket No. RP02-374-000]

Gulf South Pipeline Company, LP; Notice of Proposed Changes to FERC Gas Tariff

July 3, 2002.

Take notice that on June 28, 2002, Gulf South Pipeline Company, LP (Gulf South) tendered for filing as part of its FERC Gas Tariff, Sixth Revised Volume No. 1, the following tariff sheet, to become effective May 2, 2002:

Fourth Revised Sheet No. 20

Gulf South states that the purpose of this filing is to combine Second Revised Sheet No. 20 and Third Revised Sheet No. 20 previously approve by the Commission in Dockets RP00-340 and RP02-223, respectively.

Gulf South states copies of this filing have been served upon Gulf South's customers, state commissions and other interested parties.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-17399 Filed 7-10-02; 8:45 am]

BILLING CODE 6717-01-P